GENERAL SERVICES ADMINISTRATION

[OMB Control No. 3090-0278; Docket 2012-0001; Sequence 19]

National Contact Center; Submission for OMB Review; National Contact Center Customer Evaluation Survey

AGENCY: Contact Center Services, Federal Citizen Information Center, Office of Citizen Services and Innovative Technologies, General Services Administration.

ACTION: Notice of request for comments regarding an extension to an existing OMB clearance.

SUMMARY: Under the provisions of the Paperwork Reduction Act, the General Services Administration will be submitting to the Office of Management and Budget (OMB) a request to review and approve an extension of a previously approved information collection requirement regarding the National Contact Center customer evaluation surveys. In this request, the previously approved surveys have been supplemented with surveys that will temporarily replace those existing surveys for one period of several months. These temporary surveys will allow the National Contact Center to compare its customer service levels to those of private industry contact centers. A notice was published in the Federal Register at 78 FR 14549, on March 6, 2013. No comments were received.

DATES: Submit comments on or before: June 21, 2013.

FOR FURTHER INFORMATION CONTACT: Tonya Beres, Federal Information Specialist, Office of Citizen Services and Communications, at telephone (202) 501-1803 or via email to tonya.beres@gsa.gov.

ADDRESSES: Submit comments identified by Information Collection 3090-0278, National Contact Center Evaluation Survey, by any of the following methods:

• Regulations.gov: http://www.regulations.gov. Submit comments via the Federal eRulemaking portal by searching the OMB control number. Select the link “Submit a Comment” that corresponds with “Information Collection 3090-0278, National Contract Center Evaluation Survey”. Follow the instructions provided at the “Submit a Comment” screen. Please include your name, company name (if any), and “Information Collection 3090-0278, National Contract Center Evaluation Survey” on your attached document.

• Fax: 202-501-4067.

• Mail: General Services Administration, Regulatory Secretariat (MVCB), 1275 First Street NE., Washington, DC 20417. ATTN: Hada Flowers/IC 3090-0278, National Contract Center Evaluation Survey.

Instructions: Please submit comments only and cite Information Collection 3090-0278, National Contract Center Evaluation Survey, in all correspondence related to this collection. Submit comments regarding this burden estimate or any other aspect of this collection of information, including suggestions for reducing this burden to: FAR Desk Officer, OMB, Room 10102, NEOB, Washington, DC 20503. All comments received will be posted without change to http://www.regulations.gov, including any personal and/or business confidential information provided.

SUPPLEMENTARY INFORMATION:

A. Purpose

This information collection will be used to assess the public's satisfaction with the National Contact Center service, to assist in increasing the efficiency in responding to the public's need for Federal information, and to assess the effectiveness of marketing efforts.

Public comments are particularly invited on: Whether this collection of information is necessary and whether it will have practical utility; whether our estimate of the public burden of this collection of information is accurate and based on valid assumptions and methodology; and ways to enhance the quality, utility, and clarity of the information to be collected.

B. Annual Reporting Burden

Temporary Telephone survey (One year only):

Respondents: 300.

Responses per Respondent: 1.

Annual Responses: 300.

Hours Per Response: 0.116.

Total Burden Hours: 35.

Permanent Telephone Survey:

Respondents (Year one): 900.

Respondents (subsequent years): 1000.

Responses per Respondent: 1.

Annual Responses (year one): 900.

Annual Responses (subsequent years): 1000.

Hours per Response: 0.033.

Total Burden Hours (year one): 30.

Total Burden Hours (subsequent years): 33.33.

Temporary Email survey (One year only):

Respondents: 600.

Responses per Respondent: 1.

Annual Responses: 600.

Hours per Response: 0.0833.

Total Burden Hours: 50.

Permanent Email Survey:

Respondents (Year one): 960.

Respondents (subsequent years): 1560.

Responses per Respondent: 1.

Annual Responses (year one): 960.

Annual Responses (subsequent years): 1560.

Hours per Response: 0.05.

Total Burden Hours (year one): 48.

Total Burden Hours (subsequent years): 78.

Temporary Web Chat survey (One year only):

Respondents: 400.

Responses per Respondent: 1.

Annual Responses: 400.

Hours per Response: 0.0833.

Total Burden Hours: 33.33.

Permanent Web Chat Survey:

Respondents (Year one): 440.

Respondents (subsequent years): 840.

Responses per Respondent: 1.

Annual Responses (year one): 440.

Annual Responses (subsequent years): 840.

Hours per Response: 0.05.

Total Burden Hours (year one): 22.

Total Burden Hours (subsequent years): 42.

Total Annual Respondents (year one): 3600.

Total Annual Respondents (year one).

Total Burden Hours (Combined, Year One): 218.

Total Burden Hours (Combined, Subsequent Years): 153.33.

Obtaining Copies Of Proposals: Requesters may obtain a copy of the information collection documents from the General Services Administration, Regulatory Secretariat (MVCB), 1275 First Street NE., Washington, DC 20417, telephone (202) 501-4755. Please cite OMB Control No. 3090-0278, National Contact Center Customer Evaluation Survey, in all correspondence.

Dated: May 15, 2013.
Casey Coleman,
Chief Information Officer.

[FR Doc. 2013-12107 Filed 5-21-13; 8:45 am]

BILLING CODE 6820-CX-P